ENVIRONMENTAL PROTECTION AGENCY

[FRL-6868-3]

National Environmental Justice Advisory Council's (NEJAC) Puerto Rico Subcommittee; Notification of First NEJAC Puerto Rico Subcommittee Meeting, Open Meeting and Public Comment Period (All Times Are Local Puerto Rico Time)

AGENCY: Environmental Protection Agency (EPA).

ACTION: Notice.

SUMMARY: The Environmental Protection Agency Region II will sponsor a National Environmental Justice Advisory Council (NEJAC) Puerto Rico Subcommittee Meeting on Environmental Justice, September 26-27, 2000, in Manat́, Puerto Rico. Specifically, the meeting and public comment period will be held at Collage, located in Highway #2 Km. 49.2 in Manat́. Meeting activities will include speaker presentations and a public comment period pertaining to environmental justice issues on the island. The meeting will start with a presentation from the EPA Region II Administrator. During the meeting there will also be presentations from the Director of the EPA Region II Caribbean Environmental Protection Division and the members of the new Puerto Rico Subcommittee. On September 26, the first day of the meeting, there will be a public comment period from 6:30 p.m. to 8:30 p.m. A broad range of stakeholders and constituent groups from all of Puerto Rico are invited to participate to help develop a framework and general recommendations to address environmental justice issues on the island of Puerto Rico. On September 27, the second day of the meeting, the agenda includes a discussion of follow-up and next steps. A report and recommendations from the Meeting Proceedings will be prepared by the Puerto Rico Subcommittee and submitted to NEJAC for review and consideration before forwarding them to the Administrator of the U.S EPA.

Members of the public who wish to make a brief oral presentation should pre-register by contacting Rafael Mayoral at (787) 729-6951 extension 251 by September 19, 2000 to have time reserved on the agenda. Individuals or groups making oral presentations will be limited to a total time of five minutes. Written comments of no more than 10 pages should be received by September 19, 2000. Send your written comments to: Tere Rodŕguez, Designated Federal Official (DFO) of the Puerto Rico Subcommittee, Caribbean Environmental Protection Division, U.S. Environmental Protection Agency, Centro Europa Building, Suite 417, 1492 Ponce De Leon Avenue, Stop 22, San Juan, PR 00907-4127. After September 19, you should hand deliver 25 copies of your written comments to the DFO at the meeting. For more information please call (787) 729-6951 extension 266.

Dated: September 6, 2000.
Tere Rodŕguez,
Designated Federal Official, Puerto Rico Subcommittee.

[FR Doc. 00-23349 Filed 9-8-00; 8:45 am]

BILLING CODE 6560-50-P